DEPARTMENT OF ENERGY

Federal Energy Regulatory Commission

Combined Notice of Filings #1

Take notice that the Commission received the following electric rate filings:

Docket Numbers: ER20-1977-006.

Applicants: Versant Power.

Description: Compliance filing: Joint Offer of Settlement Re: MPD 2023-2024 Charges (ER20-1977-) to be effective N/A.

Filed Date: 1/5/24.

Accession Number: 20240105-5092.

Comment Date: 5 p.m. ET 1/26/24.

Docket Numbers: ER23-2212-002.

Applicants: New York Independent System Operator, Inc., Consolidated Edison Company of New York, Inc.

Description: Compliance filing: Consolidated Edison Company of New York, Inc. submits tariff filing per 35: Con Edison Compliance: Rate Schedule 19 Formula Rate Template to be effective 8/22/2023.

Filed Date: 1/4/24.

Accession Number: 20240104-5161.

Comment Date: 5 p.m. ET 1/25/24.

Docket Numbers: ER24-89-001.

Applicants: PJM Interconnection, L.L.C.

Description: Tariff Amendment: Response to Commission's 12/8/2023 Deficiency Letter in ER24-89-000 to be effective 9/13/2023.

Filed Date: 1/5/24.

Accession Number: 20240105-5147.

Comment Date: 5 p.m. ET 1/26/24.

Docket Numbers: ER24-821-000.

Applicants: Tri-State Generation and Transmission Association, Inc.

Description: 205(d) Rate Filing: Initial Filing of Rate Schedule FERC No. 363 to be effective 12/6/2023.

Filed Date: 1/5/24.

Accession Number: 20240105-5082.

Comment Date: 5 p.m. ET 1/26/24.

Docket Numbers: ER24-822-000.

Applicants: Tri-State Generation and Transmission Association, Inc.

Description: 205(d) Rate Filing: Amendment to Rate Schedule FERC No. 12 to be effective 3/5/2024.

Filed Date: 1/5/24.

Accession Number: 20240105-5086.

Comment Date: 5 p.m. ET 1/26/24.

Docket Numbers: ER24-823-000.

Applicants: Midcontinent Independent System Operator, Inc., ALLETE, Inc.

Description: 205(d) Rate Filing: Midcontinent Independent System Operator, Inc. submits tariff filing per 35.13(a)(2)(iii: 2023-01-05_ALLETE-GRE Zonal Agreement Filing to be effective 1/1/2024.

Filed Date: 1/5/24.

Accession Number: 20240105-5097.

Comment Date: 5 p.m. ET 1/26/24.

Docket Numbers: ER24-824-000.

Applicants: Alabama Power Company, Georgia Power Company, Mississippi Power Company.

Description: 205(d) Rate Filing: Alabama Power Company submits tariff filing per 35.13(a)(2)(iii: Camellia Solar (Camellia II) LGIA Filing to be effective 12/21/2023.

Filed Date: 1/5/24.

Accession Number: 20240105-5099.

Comment Date: 5 p.m. ET 1/26/24.

Docket Numbers: ER24-825-000.

Applicants: Midcontinent Independent System Operator, Inc., ALLETE, Inc.

Description: 205(d) Rate Filing: Midcontinent Independent System Operator, Inc. submits tariff filing per 35.13(a)(2)(iii: 2024-01-05_SA 2905 ALLETE-GRE WDS to be effective 1/1/2024.

Filed Date: 1/5/24.

Accession Number: 20240105-5105.

Comment Date: 5 p.m. ET 1/26/24.

Docket Numbers: ER24-826-000.

Applicants: Public Service Company of Colorado.

Description: Tariff Amendment: CSU Midway SISA & FAC 736-NOC to be effective 1/6/2024.

Filed Date: 1/5/24.

Accession Number: 20240105-5144.

Comment Date: 5 p.m. ET 1/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 5, 2024.
Debbie-Anne A. Reese,
Acting Secretary.

[FR Doc. 2024-00418 Filed 1-10-24; 8:45 am]

BILLING CODE 6717-01-P